DEPARTMENT OF THE INTERIOR

Bureau of Land Management

[WY-060-1320-EL, WYW163340]

Notice of Availability of the West Antelope II Coal Lease by Application Final Environmental Impact Statement, Wyoming.

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) announces the availability of the West Antelope II Coal Lease by Application (LBA) Final Environmental Impact Statement (FEIS). The tract is being considered for sale as a result of a coal lease application received from the operator of the adjacent Antelope Mine in Campbell and Converse Counties, Wyoming.

DATES: To ensure comments will be considered, the BLM must receive written comments on the West Antelope II Coal LBA FEIS within 30 days following the date the Environmental Protection Agency (EPA) publishes their Notice of Availability in the Federal Register.

ADDRESSES: You may submit comments by any of the following methods:

• E-mail: casper_wymail@blm.gov.

• Fax: 307-261-7587.

• Mail: Casper Field Office, Bureau of Land Management, Attn: Sarah Bucklin, 2987 Prospector Drive, Casper, Wyoming 82604.

Copies of the FEIS are available at the following BLM office locations: BLM Wyoming State Office, 5353 Yellowstone Road, Cheyenne, Wyoming 82009; and BLM Casper Field Office, 2987 Prospector Lane, Casper, Wyoming 82604. The FEIS is available electronically on the following Web site: http://www.blm.gov/wy/st/en/info/NEPA/cfodocs/West_Antelope_II.html.

FOR FURTHER INFORMATION CONTACT: Sarah Bucklin or Mike Karbs at the BLM Casper Field Office address above or telephone 307-361-7600.

SUPPLEMENTARY INFORMATION: The FEIS analyzes and discloses to the public direct, indirect, and cumulative environmental impacts of issuing a Federal coal lease in the Wyoming portion of the Powder River Basin. The BLM is considering a coal lease issuance as a result of an April 6, 2005, application submitted by Antelope Coal Company (Antelope) to lease Federal coal near the Antelope Mine approximately 50 miles north of Douglas, Wyoming.

The applicant proposes to lease the tract as a maintenance tract to extend the life of the existing mining operations at the Antelope Mine under the provisions of the Leasing on Application regulations at 43 CFR subpart 3425. This tract, case number WYW163340, is referred to as the West Antelope II tract.

The following lands in Campbell and Converse Counties, Wyoming, are included in the tract as applied for:

T. 40 N., R. 71 W., 6th PM, Wyoming

Section 5: Lot 18;

Section 8: Lots 1 through 3, 6 through 11, 14 through 16;

Section 9: Lots 2 through 16;

Section 10: Lots 5, 6, 11 through 14.

T. 41 N., R. 71 W., 6th PM, Wyoming

Section 9: Lots 9 through 16;

Section 10: Lots 11 through 15;

Section 14: Lots 3 and 4;

Section 15: Lots 1 through 5, 12, 13;

Section 20: Lots 14 through 16;

Section 21: Lots 1 through 16;

Section 22: Lots 2, 7, 8, 14 through 16;

Section 27: Lots 6 through 11;

Section 28: Lots 1 through 8;

Section 29: Lots 1 through 3, 6 through 8.

Containing 4,108.6 acres more or less.

Antelope estimates that approximately 429.7 million tons of Federal coal are included in the tract for which they applied. The Office of Surface Mining Reclamation and Enforcement (OSM), the USDA-Forest Service, the Land Quality and Air Quality Divisions of the Wyoming Department of Environmental Quality (WDEQ), and the Converse County Board of Commissioners are cooperating agencies in the preparation of the FEIS. If the tract is leased as a maintenance tract, the new lease will be incorporated into the existing mining and reclamation plan for the adjacent mine. The Secretary of the Interior (Secretary) must approve the revision to the Mineral Leasing Act (MLA) mining plan before the Federal coal can be mined. If the tract is leased, the OSM is the Federal agency that would be responsible for recommending approval, approval with conditions, or disapproval of the revised MLA mining plan to the Office of the Secretary. The WDEQ has entered into a cooperative agreement with the Secretary to regulate surface coal mining operations on Federal and non-Federal lands within the State of Wyoming.

On October 17, 2006, the BLM published a Notice of Intent (NOI) to prepare an EIS for the West Antelope II coal lease application in the Federal Register. A notice announcing the availability of the Draft EIS (DEIS) was published in the Federal Register by the EPA on February 8, 2008. A 60-day comment period on the DEIS commenced with publication of the EPA's notice of availability and ended on April 8, 2008. The BLM published a Notice of Availability and Notice of Public Hearing in the Federal Register on March 17, 2008. The BLM's Federal Register notice announced the date and time of a public hearing, which was held on March 24, 2008, in Douglas, Wyoming. The purpose of the hearing was to solicit comments on the DEIS, fair market value, and the maximum economic recovery of the Federal coal. Four statements were given as testimony at the public hearing; they are summarized in an appendix in the FEIS. During the DEIS comment period, the BLM received 14 comment letters, included in an appendix to the FEIS with BLM's responses to the comments. The FEIS analyzes leasing the West Antelope II coal tract as-applied-for as the Proposed Action. Under the Proposed Action, a competitive sale would be held and a lease issued for Federal coal in the tract as applied for by Antelope. As part of the coal leasing process, the BLM identified an alternative tract configuration to assure the maximum economic recovery of the coal, avoid isolating or bypassing marketable coal, and potentially prompt competitive interest in the unleased Federal coal for this area. The alternate tract configuration that BLM has identified is described and analyzed as a separate alternative in the FEIS. Under this alternative, a competitive sale would be held and a lease would be issued for Federal coal lands included in a tract modified by the BLM. The FEIS also analyzes the alternative of rejecting the application to lease Federal coal as the No Action Alternative. The Proposed Action and alternatives being considered in the FEIS are in conformance with the Approved Resource Management Plan for Public Lands Administered by the Bureau of Land Management Buffalo Field Office (2001), the Bureau of Land Management Casper Field Office Resource Management Plan (2007), and the USDA-Forest Service Land and Resource Management Plan for the Thunder Basin National Grassland (2002). A Record of Decision (ROD) will be prepared after the close of the 30-day review period for the FEIS. Comments received on the FEIS will be considered during preparation of the ROD.

Four copies of the FEIS will be included on the mailing list for this project. Please make requests for copies in writing, by facsimile, or electronically to the addresses listed at the beginning of this notice. The BLM asks that those submitting comments on the FEIS make them as specific as possible with reference to page numbers and chapters of the document. Comments that contain only opinions or preferences will not receive a formal response; however, they will be considered as part of the BLM decision-making process. Please note that comments and information submitted including names, street addresses, and e-mail addresses of respondents will be available for public review and disclosure at the BLM Casper Field Office during regular business hours (7:45 a.m. through 4:30 p.m.), Monday through Friday, except holidays. Before including your address, phone number, e-mail address, or other personal identifying information in your comment, please be aware that your entire comment, including your personal identifying information, may be made publicly available at any time. While you may ask us in your comment to withhold your personal identifying information from public review, we cannot guarantee that we will be able to do so.

Martin G. Griffith,
Acting State Director.

[FR Doc. E9-1308 Filed 1-22-09; 8:45 am]

BILLING CODE 4310-22-P